DEPARTMENT OF THE INTERIOR

Office of the Assistant Secretary—Water and Science; Environmental Assessment for the Proposed Restoration of a Portion of Lower Hobble Creek

AGENCY: Central Utah Project Completion Act Completion Office, Interior.

ACTION: Notice of intent.

SUMMARY: Pursuant to Section 102(2)(c) of the National Environmental Policy Act of 1969, as amended, the Department of the Interior, the Central Utah Water Conservancy District, and the Utah Reclamation Mitigation and Conservation Commission, as joint leads, are initiating an Environmental Assessment of the impacts associated with the proposed restoration of the eastern portion of Lower Hobble Creek, near Springville, Utah. This restoration effort is intended to facilitate the recovery of the June Sucker (Chasmistes liorus), a Federally listed endangered species, through improvement of spawning habitat and maintenance of stream flow. It is anticipated that the resultant effort would include the possible restoration of approximately 2 miles of stream channel, potential modification or removal of several existing barriers to fish passage, and enhancement of the existing water supply.

DATES: Date and location for public scoping will be announced locally.

FOR FURTHER INFORMATION CONTACT: Contact Mr. Lee Baxter at (801) 379-1174, or by e-mail at lbaxter@usbr.gov.

Reed R. Murray,
Program Director, Central Utah Project Completion Act, Department of the Interior.

[FR Doc. 2011-6090 Filed 3-15-11; 8:45 am]

BILLING CODE 4310-MN-P